DEPARTMENT OF VETERANS AFFAIRS

Order Suspending the Application of Section 1-402 or 1-404 of Executive Order 12171

AGENCY: Department of Veterans Affairs.

ACTION: Notice.

SUMMARY: An Executive Order (E.O.), issued on March 27, 2025, provides the Secretary of the Department of Veterans Affairs (VA) with delegated authority to suspend the application of sections of a separate Executive Order to any subdivision of the VA that he supervises, thereby bringing those subdivisions under the coverage of the Federal Service Labor-Management Relations Statute.

DATES: This suspension is effective upon publication.

FOR FURTHER INFORMATION CONTACT: Tracey Therit, Chief Human Capital Officer, Office of Human Resources and Administration/Operations, Security and Preparedness, Department of Veterans Affairs, 810 Vermont Ave. NW, Room 265, Washington, DC, Office: (202) 461-0235, Mobile: (202) 359-8960.

SUPPLEMENTARY INFORMATION: Pursuant to the authority provided to the Secretary of the VA in section 4 of E.O. 14251, Exclusions from Federal Labor-Management Relations Programs, the VA suspends the application of section 1-402 or 1-404 of Executive Order 12171, as amended, for employees represented by Laborers International Union of North America (LIUNA); Western Federation of Nurses and Health Professionals (WFNHP), Veterans Affairs Staff Nurse Council (VASNC) Local 5032 at the VA Medical Center Milwaukee, WI; International Association of Fire Fighters (IAFF-99) at the VA Medical Center, Little Rock, AR; United Nurses Association of California/Union of Healthcare Professionals (UNAC/UHCP) at the VA Medical Center, Loma Linda, CA; Teamsters Union Local 115 at the Department of Veterans Affairs Medical Center, Coatesville, PA; International Brotherhood of Electrical Workers (IBEW) Local 2168 at the Cheyenne WY VA Medical Center; and, International Association of Machinists and Aerospace Workers, (IAMAW) Local 1998 at the VA National Cemetery of the Pacific in Honolulu, HI thereby bringing such employees under the coverage of the Federal Service Labor-Management Relations Statute. The Secretary specifically concurs with the President's determinations as set forth in Executive Order 14251 Section 1(b). Specifically, the Secretary agrees the Department of Veterans Affairs has as a primary function national security work, and the requirements of Chapter 71 of title 5 cannot be applied to its operations consistent with national security requirements and considerations.

Signing Authority

Douglas A. Collins, Secretary of Veterans Affairs, approved this document on April 11, 2025, and authorized the undersigned to sign and submit the document to the Office of the Federal Register for publication electronically as an official document of the Department of Veterans Affairs.

Michael P. Shores,
Director, Office of Regulation Policy & Management, Office of General Counsel, Department of Veterans Affairs.

[FR Doc. 2025-06566 Filed 4-16-25; 8:45 am]

BILLING CODE 8320-01-P